NUCLEAR WASTE TECHNICAL REVIEW BOARD

Board Meeting

The U.S. Nuclear Waste Technical Review Board will hold a hybrid (in-person/virtual) public meeting on May 21-22, 2024.

Board meeting: May 21-22, 2024—The U.S. Nuclear Waste Technical Review Board will hold a hybrid (in-person/virtual) public meeting in Knoxville, TN, to review information on the U.S. Department of Energy's (DOE) research and development (R&D) activities (a) related to non-site-specific disposal of spent nuclear fuel and high-level radioactive waste in crystalline host rocks and (b) on corrosion of commercial SNF after disposal.

Pursuant to its authority under section 5051 of Public Law 100-203, Nuclear Waste Policy Amendments Act (NWPAA) of 1987, the U.S. Nuclear Waste Technical Review Board will hold a hybrid (in-person/virtual) meeting in Knoxville, TN, on Tuesday, May 21, 2024, and Wednesday, May 22, 2024, to review information on the U.S. Department of Energy's (DOE) research and development (R&D) activities (a) related to non-site-specific disposal of spent nuclear fuel (SNF) and high-level radioactive waste (HLW) in crystalline host rocks and (b) on corrosion of commercial SNF after disposal.

The hybrid (in-person/virtual) meeting will be held at the Hilton Downtown Knoxville Hotel at 501 West Church Avenue in Knoxville, Tennessee. The hotel telephone number is 865-523-2300. The hotel website is https://www.hilton.com/en/hotels/knxkhhf-hilton-knoxville/. On Tuesday, May 21, the meeting will begin at 80 a.m. eastern daylight time (EDT) and is scheduled to adjourn at approximately 5 p.m. EDT. On Wednesday, May 22, the hybrid meeting will begin at 8 a.m. EDT and conclude at 12 p.m. EDT. On the first day, the initial speakers will provide an overview of DOE's SNF and HLW disposal research programs. Additional speakers representing the national laboratories conducting the work for DOE will report on R&D activities to advance the understanding of long-term waste disposal in crystalline rocks. They will also discuss R&D efforts related to the corrosion of commercial SNF. This includes the development of a corrosion model capable of accounting for complex physical and chemical processes for a wide range of repository conditions. Speakers from Finland and Canada will present information on their countries' disposal programs. A detailed meeting agenda will be available on the Board's website at www.nwtrb.gov approximately one week before the meeting.

The meeting will be open to the public, and there will be an opportunity for public comment at the end of the meeting each day. Those attending the meeting in person and wishing to provide oral comments are encouraged to sign-in using the Public Comment Register at the check-in table near the entrance to the meeting room. Oral commenters will be taken in the order in which they signed in. Public comments may also be submitted during the meeting via the online meeting viewing platform, using the “Comment for the Record” form. Comments submitted online during the day of the meeting may be read into the record by Board staff during the public comment period if time allows. Depending on the number of speakers and online comments, a time limit on individual remarks may be set. Written comments of any length may be submitted to the Board staff by mail or electronic mail. Comments received in writing will be included in the meeting record, which will be posted on the Board's website. An archived recording of the meeting will be available on the Board's website following the meeting, and a transcript of the meeting will be available on the website by July 31, 2024.

The Board is an independent federal agency in the Executive Branch. It was established in the Nuclear Waste Policy Amendments Act of 1987 (Pub. L. 100-203) to perform ongoing evaluation of the technical and scientific validity of U.S. Department of Energy activities related to developing and implementing a program for the management and disposal of spent nuclear fuel and high-level radioactive waste, in accordance with the terms of the Nuclear Waste Policy Act of 1982. Board members serve part-time and are appointed by the President from a list of nominees submitted by the National Academy of Sciences. The Board reports its findings, conclusions, and recommendations to Congress and the Secretary of Energy. Board reports, correspondence, congressional testimony, meeting transcripts, and related materials are posted on the Board's website.

For information regarding the meeting, contact Mr. Christopher Burk at burk@nwtrb.gov, or by phone at 703-235-4486, or Ms. Chandrika Manepally at manepally@nwtrb.gov, or by phone at 703-235-4489. For information on meeting logistics, contact Davonya Barnes at barnes@nwtrb.gov, or by phone at 703-235-9141. All three may be reached by mail at 2300 Clarendon Boulevard, Suite 1300, Arlington, VA 22201-3367; or by fax at 703-235-4495.

Dated: April 22, 2024.
Daniel G. Ogg,
Executive Director, U.S. Nuclear Waste Technical Review Board.

[FR Doc. 2024-09249 Filed 4-29-24; 8:45 am]

BILLING CODE 6820-AM-P